DEPARTMENT OF DEFENSE

Department of Army

Final Environmental Impact Statement and Finding of no Practicable Alternative for Implementation of Area Development Plan at Davison Army Airfield, Fort Belvoir, Virginia

AGENCY: Department of Army, DoD.

ACTION: Notice of availability.

SUMMARY: The Department of Army (Army) announces the availability of the Final Environmental Impact Statement (EIS) for the proposed implementation of an Area Development Plan (ADP) for Davison Army Airfield (DAAF) at Fort Belvoir, Virginia. In accordance with the National Environmental Policy Act (NEPA), the Final EIS analyzes the potential environmental impacts associated with implementing the construction, modernization, and demolition projects at DAAF recommended in the ADP (Proposed Action). A Finding of No Practicable Alternative (FONPA) addressing potential impacts on floodplains and wetlands was prepared in parallel with and is included as an appendix to the Final EIS. The Proposed Action would be implemented over an approximately 30-year time period to provide facilities and infrastructure necessary to support the ongoing and future missions of DAAF's tenants. The Proposed Action would improve the airfield's functional layout, demolish and replace aging facilities and infrastructure, and address multiple operational safety concerns along the runway. The ADP is specific to DAAF and all projects would occur entirely within its boundaries. No substantial changes in missions, air operations, or the number of aircraft and personnel at DAAF would occur under the Proposed Action.

FOR FURTHER INFORMATION CONTACT: Please contact: Ms. Wilamena G. Harback, Fort Belvoir Directorate of Public Works-Environmental Division (DPW-ED) via phone at (703) 806-3193 or (703) 806-0020, during normal working business hours, Monday through Friday, 8:00 a.m. to 4:00 p.m. Further information may also be requested via email to: FortBelvoirNOI@usace.army.mil. Electronic copies of the Final EIS and FONPA are available on Fort Belvoir's website at: https://home.army.mil/belvoir/index.php/about/Garrison/directorate-public-works/environmental-division.

SUPPLEMENTARY INFORMATION: The Final EIS analyzes the potential environmental impacts of the Army's Proposed Action to implement the construction, modernization, and demolition projects recommended in the ADP. The Proposed Action would occur entirely within the 673-acre DAAF property on Fort Belvoir. Up to 24 ADP projects would be implemented in three sequential phases over the course of an approximately 30-year time period, as follows: Short-range (next 10 years), mid-range (11 to 20 years from now), and long-range (21 to 30 years from now). No substantial changes in missions, air operations, or the number of aircraft and personnel at DAAF would occur under the Proposed Action. Operational noise levels following implementation of the Proposed Action would remain similar to current conditions.

The Proposed Action includes the construction of new hangars, administrative and operational facilities; the modernization of existing facilities; the demolition of up to 37 existing buildings and structures; and related infrastructure improvements. Demolition activities would remove a number of facilities that partially obstruct the airfield's Primary and Transitional Surfaces, which are required to be free of obstructions in accordance with Department of Defense (DoD) operational safety criteria. These facilities require temporary safety waivers to operate.

The Final EIS assesses the direct, indirect, and cumulative potential environmental impacts associated with the Proposed Action. In support of the Final EIS, the Army conducted consultation to obtain regulatory concurrence in accordance with Section 7 of the Endangered Species Act, Section 106 of the National Historic Preservation Act, and Section 307 of the Coastal Zone Management Act.

The Army evaluated several alternatives for the Proposed Action before selecting two action alternatives for detailed analysis in the Final EIS: The Full Implementation Alternative and the Partial Implementation Alternative. A No Action Alternative was also carried forward for analysis.

1. Full Implementation Alternative (Preferred Alternative): This alternative would implement the complete suite of 24 projects recommended in the DAAF ADP. The Full Implementation Alternative would accommodate the space and functional needs of all DAAF tenants consistent with applicable DoD requirements. It would also fulfill DAAF's vision to create a safe, secure, sustainable, and consolidated aviation complex.

2. Partial Implementation Alternative: This alternative would implement a modified, reduced program of 15 ADP projects at DAAF. The Partial Implementation Alternative would not address DAAF's tenants' requirements in full, but would substantially improve conditions.

Under the No Action Alternative, the Army would not implement the DAAF ADP; existing conditions at the airfield would continue for the foreseeable future. The No Action Alternative does not meet the Proposed Action's purpose and need, but was analyzed in the Final EIS to provide a baseline for the comparison of impacts from the Full and Partial Implementation Alternatives.

The Final EIS analyzed the Proposed Action's potential impacts on land use, aesthetics, and coastal zone management; historic and cultural resources; air quality; noise; geology, topography, and soils; water resources; biological resources; health and safety; and hazardous materials and waste.

The Final EIS determined that the Full Implementation Alternative and Partial Implementation Alternative would have potentially significant adverse impacts on waters of the U.S., including wetlands, from the construction and operation of new facilities and infrastructure. Adverse impacts on all other resources analyzed in the Final EIS, including the 100-year floodplain on DAAF, would be less-than-significant under either action alternative. Adherence to applicable regulatory permitting requirements would mitigate significant adverse effects on waters of the U.S. to the extent possible. Management measures would be implemented to avoid or minimize less-than-significant adverse impacts on all other resources. Both action alternatives would have beneficial effects on land use, plans, and aesthetics, and the management of hazardous materials and waste on the airfield.

In compliance with Executive Order (E.O.) 11988, Floodplain Management and E.O. 11990, Protection of Wetlands, the Army prepared a FONPA explaining its decision to implement the Proposed Action in the 100-year floodplain and wetlands on DAAF.

The Army conducted a 45-day public review and comment period for the Draft EIS and Draft FONPA between July 24 and September 8, 2020, including two publicly accessible teleconferences on August 24, 2020. Comments received during the public comment period were considered by the Army and are addressed accordingly in the Final EIS. None of the comments required substantive changes to the Proposed Action, alternatives, or impact analysis.

The Final EIS and FONPA are being made available to the public for 30 days in accordance with the Army NEPA regulations under 32 CFR 651. Electronic copies of these documents will be available for review or download on Fort Belvoir's website at: https://home.army.mil/belvoir/index.php/about/Garrison/directorate-public-works/environmental-division. Due to closures of public facilities associated with the COVID-19 pandemic, printed copies of the Final EIS and FONPA will not be made available at local public libraries. A printed copy of the Final EIS or FONPA may be requested from Fort Belvoir DPW-ED at the phone number or email address provided above.

The Army will prepare and publish its Record of Decision (ROD) for the Proposed Action no sooner than 30 days after the publication of this NOA for the Final EIS. The ROD will identify the Environmentally Preferred Alternative, the Army's Selected Alternative for implementing the Proposed Action, and the mitigation and protective measures that will be incorporated to prevent or minimize potential adverse impacts. Publication of the ROD will formally conclude the NEPA process for the DAAF ADP EIS.

James W. Satterwhite Jr.,
Army Federal Register Liaison Officer.

[FR Doc. 2021-16815 Filed 8-5-21; 8:45 am]

BILLING CODE 5061-AP-P